SMALL BUSINESS ADMINISTRATION

[Disaster Declaration #17715 and #17716; ALASKA Disaster Number AK-00057]

Presidential Declaration of a Major Disaster for Public Assistance Only for the State of Alaska

AGENCY: U.S. Small Business Administration.

ACTION: Notice.

SUMMARY: This is a notice of the Presidential declaration of a major disaster for Public Assistance Only for the State of Alaska (FEMA-4672-DR), dated 11/21/2022.

Incident: Severe Storm, Flooding, and Landslides.

Incident Period: 09/15/2022 through 09/20/2022.

DATES: Issued on 11/21/2022.

Physical Loan Application Deadline Date: 01/20/2023.

Economic Injury (EIDL) Loan Application Deadline Date: 08/21/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 11/21/2022, Private Non-Profit organizations that provide essential services of a governmental nature may file disaster loan applications at the address listed above or other locally announced locations.

The following areas have been determined to be adversely affected by the disaster:

Primary Areas: Bering Strait REAA, Kashunamiut (Chevak) REAA, Lower Kuskokwim REAA, Lower Yukon REAA, Pribilof Islands REAA.

The Interest Rates are:

| Percent
For Physical Damage:
Non-Profit Organizations with Credit Available Elsewhere | 1.875
Non-Profit Organizations without Credit Available Elsewhere | 1.875
For Economic Injury:
Non-Profit Organizations without Credit Available Elsewhere | 1.875

The number assigned to this disaster for physical damage is 17715 B and for economic injury is 17716 0.

(Catalog of Federal Domestic Assistance Number 59008)

Rafaela Monchek,
Acting Associate Administrator for Disaster Assistance.

[FR Doc. 2022-26115 Filed 11-30-22; 8:45 am]

BILLING CODE 8026-09-P